DEPARTMENT OF HEALTH AND HUMAN SERVICES

Centers for Disease Control and Prevention

Sunshine Act Meeting: Board of Scientific Counselors, National Center for Environmental Health/Agency for Toxic Substances and Disease Registry (BSC, NCEH/ATSDR)

TIMES AND DATES:

8:30 a.m.-4:30 p.m., EDT, September 13, 2017

8:30 a.m.-11:30 a.m., EDT, September 14, 2017

PLACE: CDC, 4770 Buford Highway, Building 102, Conference Room 2202, Atlanta, Georgia 30341.

STATUS: In accordance with section 10(a)(2) of the Federal Advisory Committee Act (Pub. L. 92-463), the Centers for Disease Control and Prevention announces the meeting of the BSC, NCEH/ATSDR. This meeting is open to the public. The meeting room accommodates approximately 60 people. The public is also welcome to listen to the meeting by joining the teleconference at the USA toll-free, dial-in number, 1-888-790-2009 Passcode: 7865774. The deadline for notification of attendance is August 30, 2017. The public comment period is scheduled on Wednesday, September 13, 2017 from 2:00 p.m. until 2:15 p.m.; from 2:40 p.m. until 2:55 p.m.; and from 3:25 p.m. until 3:40 p.m., and on Thursday, September 14, 2017 from 10:10 a.m. until 10:25 a.m. EDT (15 minutes). Individuals wishing to make a comment during Public Comment period, please email your name, organization, and phone number by Monday, September 4, 2017 to Dr. William Cibulas at wic1@cdc.gov.

Matters To Be Considered: The Secretary, Department of Health and Human Services (HHS) and by delegation, the Director, CDC and Administrator, NCEH/ATSDR, are authorized under Section 301 (42 U.S.C. 241) and Section 311 (42 U.S.C. 243) of the Public Health Service Act, as amended, to: (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and wellbeing; and (3) train state and local personnel in health work. The BSC, NCEH/ATSDR provides advice and guidance to the Secretary, HHS; the Director, CDC and Administrator, ATSDR; and the Director, NCEH/ATSDR, regarding program goals, objectives, strategies, and priorities in fulfillment of the agency's mission to protect and promote people's health. The Board provides advice and guidance that will assist NCEH/ATSDR in ensuring scientific quality, timeliness, utility, and dissemination of results. The Board also provides guidance to help NCEH/ATSDR work more efficiently and effectively with its various constituents and to fulfill its mission in protecting America's health. The agenda items for the BSC Meeting will include NCEH/ATSDR Director Updates; Noise-Induced Hearing Loss; NCEH/ATSDR Program Responses to BSC Guidance and Action Items; Lead Poisoning Prevention Program Updates; Flint Registry; Revision of blood lead level reference value (status); Discussion of Legislative Requirements of new Lead Exposure Poisoning Federal Advisory Committee; Amyotrophic Lateral Sclerosis (ALS) Program Update; Environmental Health Tracking Program update; updates from the National Institute of Environmental Health Sciences, the National Institute for Occupational Safety and Health, the US Department of Energy and the US Environmental Protection Agency.

Agenda items are subject to change as priorities dictate.

Contact Person for More Information: Shirley Little, NCEH/ATSDR, CDC, 4770 Buford Highway, Mail Stop F-45, Atlanta, Georgia 30341; Telephone 770/488-0577, Email: snl7@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office Centers for Disease Control and Prevention.

[FR Doc. 2017-15782 Filed 7-24-17; 11:15 am]

BILLING CODE 4163-18-P